DEPARTMENT OF JUSTICE

Antitrust Division

Notice Pursuant to the National Cooperative Research and Production Act of 1993—Accredited Standards Committee N-13 on Radiation Protection

Notice is hereby given that, on September 27, 2004, pursuant to Section 6(a) of the National Cooperative Research and Production Act of 1993, 15 U.S.C. 4301 et seq. (“the Act”), Accredited Standards Committee N-13 on Radiation Protection (“N-13”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Accredited Standards Committee N-13 on Radiation Protection, McLean, VA. The nature and scope of N-13's standards development activities are: the development of national standards dealing with or pertaining to radiation protection and the protection of individuals or groups from occupational or environmental exposure to radiation or radioactive materials.

Dorothy B. Fountain,
Deputy Director of Operations, Antitrust Division.

[FR Doc. 05-2161 Filed 2-3-05; 8:45 am]

BILLING CODE 4410-11-M